DEPARTMENT OF LABOR

Employment and Training Administration

[TA-W-52,946]

Arkansas Metal Castings, Inc., Fort Smith, AR; Notice of Termination of Investigation

Pursuant to section 221 of the Trade Act of 1974, as amended, an investigation was initiated on September 24, 2003 in response to a petition filed on behalf of workers of Arkansas Metal Castings, Forth Smith, Arkansas.

The Department has been unable to locate company officials of the subject firm or to obtain the information necessary to reach a determination on worker group eligibility. Consequently, further investigation in this case would serve no purpose, and the investigation has been terminated.

Signed at Washington, DC, this 3rd day of November, 2003.
Linda G. Poole,
Certifying Officer, Division of Trade Adjustment Assistance.

[FR Doc. 03-29539 Filed 11-25-03; 8:45 am]

BILLING CODE 4510-30-P